DEPARTMENT OF LABOR

Employment and Training Administration

[TA-W-40,495 and NAFTA-05581]

G & L Service Company, North America (USA), Incorporated, Eagle Pass, Texas; Notice of Negative Determination Regarding Application for Reconsideration

By application of April 4, 2002, the petitioners requested administrative reconsideration of the Department's negative determination regarding eligibility for workers and former workers of the subject firm to apply for Trade Adjustment Assistance (TAA) under petition TA-W-40,495 and North American Free Trade Agreement-Transitional Adjustment Assistance (NAFTA-TAA) under petition NAFTA-5581. The TAA denial notice applicable to workers of G & L Service Company, North America (USA), Incorporated, Eagle Pass, Texas was signed on March 8, 2002 and published in the Federal Register on March 29, 2002 (67 FR 15226). The NAFTA-TAA denial notice applicable to workers of G & L Service Company, North America (USA), Incorporated, Eagle Pass, Texas, was signed on March 8, 2002 and published in the Federal Register on March 29, 2002 (67 FR 15227).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at G & L Service Company, North America (USA), Incorporated, Eagle Pass, Texas were engaged in providing support services to a manufacturing facility located in Mexico. There was no separation of workers manufacturing a product at a corporately-affiliated domestic facility. Sales increased in 2000 compared to 1999 and in January-September 2001 compared to the same period in 2000.

The NAFTA-TAA petition for the same worker group was denied because criteria (3) and (4) of the group eligibility requirements in paragraph (a)(1) of section 250 of the Trade Act, as amended, were not met. There was no shift in production from the workers' firm to Mexico or Canada during the relevant period. The workers of the subject firm provided services to a manufacturing facility of their parent company located in Mexico. Increased company imports from Mexico did not cause separations of workers at the subject firm, however, production of men's and women's slacks at the Mexican facility contributed to employment at the subject facility.

The petitioners allege that production at the subject firm declined during the relevant period of the investigation. The petitioners further state that they believe all criteria at the subject firm have been met and therefore they should qualify for Trade Adjustment Assistance and NAFTA-Transitional Adjustment Assistance.

The Department reviewed the data supplied by the company during the initial investigation and requested clarification from the company concerning the functions performed at the subject firm. Based on further information provided by the company, it has become evident that the workers were not engaged in production of an article, men's and women's pants and shorts. Workers instead, only performed administrative services at the subject facility during the 2000 and 2001 period. The workers provided services in support of a foreign affiliated plant that produced a product.

The subject workers do not produce an article within the meaning of section 222(3) of the Act (TAA) and section 250 of the Trade Act of 1974 (NAFTA-TAA).

The petitioners also allege that a portion of their work was performed in Mexico.

Subject plant worker functions performed outside the subject plant location are not relevant. The Department conducts TAA and NAFTA-TAA investigations for specified locations that are indicated on the TAA and/or NAFTA-TAA petition. Regardless, the work performed by the workers was not producing an article.

The new information provided by the petitioner, which while perhaps altering the basis for the prior decisions, does not provide a basis to change the prior decisions.

Conclusion

After review of the application and investigative findings, I conclude that there has been no misinterpretation of the law or of the facts which would justify reconsideration of the Department of Labor's prior decisions. Accordingly, the application is denied.

Signed at Washington, DC, this 31st day of May, 2002.
Edward A. Tomchick,
Director, Division of Trade Adjustment Assistance.

[FR Doc. 02-14787 Filed 6-11-02; 8:45 am]

BILLING CODE 4510-30-P